DEPARTMENT OF HEALTH AND HUMAN SERVICES

Centers for Medicare & Medicaid Services

[Document Identifiers: CMS-10410, CMS-R-74, and CMS-R-199]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by November 7, 2025.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier: _ /OMB Control Number: _ , Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10410—Medicaid Program; Eligibility Changes under the Affordable Care Act of 2010

CMS-R-74—Income and Eligibility Verification System

CMS-R-199—Medicaid Report on Payables and Receivables

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collections

1. Type of Information Collection Request: Extension of a currently approved collection; Title of Information Collection: Medicaid Program; Eligibility Changes under the Affordable Care Act of 2010; Use: The State Medicaid and CHIP agencies will collect all information needed to determine and redetermine eligibility for Medicaid and will transmit information, as appropriate, to other insurance affordability programs. The information collection requirements will assist the public to understand information about health insurance affordability programs and will assist CMS in ensuring the seamless, coordinated, and simplified system of Medicaid and CHIP application, eligibility determination, verification, enrollment, and renewal. Form Number: CMS-10410 (OMB control number: 0938-1147); Frequency: Occasionally; Affected Public: Individuals or households, and State, Local, and Tribal Governments; Number of Respondents: 25,500,096; Total Annual Responses: 76,500,218; Total Annual Hours: 21,266,302. (For policy questions regarding this collection contact: Abby Kahn at 410-786-4321.)

2. Type of Information Collection Request: Extension of a currently approved collection; Title of Information Collection: Income and Eligibility Verification System; Use: Section 1137 of the Social Security Act requires that States verify the income and eligibility information contained on the applicant's application and in the applicant's case file through data matches with the agencies and entities identified in Section 1137 of the Act. The State Medicaid/CHIP agency will report the existence of a system to collect all information needed to determine and redetermine eligibility for Medicaid and CHIP. The State Medicaid/CHIP agency will attest to using the PARIS system in determining eligibility in Medicaid or CHIP benefit programs. Form Number: CMS-R-74 (OMB control number: 0938-0467); Frequency: Occasionally; Affected Public: State, Local, or Tribal Governments; Number of Respondents: 55; Total Annual Responses: 3,241; Total Annual Hours: 1,082. (For policy questions regarding this collection contact: Abby Kahn at 410-786-4321.)

3. Type of Information Collection Request: Reinstatement without change of a currently approved collection; Title of Information Collection: Medicaid Report on Payables and Receivables; Use: Section 1903(b)(d)(1) of the Social Security Act requires the Secretary to estimate the amount each State should be paid at the beginning of each quarter. This amount is to be based on a report filed by the State. Section 1903(b)(d)(2)(A) of the Act authorizes the Secretary to pay the amount estimated, reduced or increased to the extent of any overpayment or underpayment for any prior quarter. Collection of Medicaid data and the calculation of the Medicaid Incurred But Not Reported (IBNR) estimate are pertinent to CMS' financial audit. The Medicaid Report on Payables and Receivables will provide the information needed to calculate the Medicaid IBNR. Form CMS-R-199 collects accounting data from the States on payables and receivables. Form Number: CMS-R-199 (OMB control number: 0938-0697); Frequency: Yearly; Affected Public: State, Local, or Tribal Governments; Number of Respondents: 56; Total Annual Responses: 56; Total Annual Hours: 1,792. (For policy questions regarding this collection contact: Kimaada Battle at (410) 786-8042.)

William N. Parham, III,
Director, Division of Information Collections and Regulatory Impacts, Office of Strategic Operations and Regulatory Affairs.

[FR Doc. 2025-17203 Filed 9-5-25; 8:45 am]

BILLING CODE 4120-01-P